DEPARTMENT OF COMMERCE

Foreign-Trade Zones Board

(DOCKET 58-2002)

Foreign-Trade Zone 7-Mayaguez, Puerto Rico: Withdrawal of Application for Subzone Status for the API, Inc., Pharmaceutical Chemicals Plant

Notice is hereby given of the withdrawal of the application submitted by the Puerto Rico Industrial Development Corporation (PRIDCO), grantee of FTZ 7, on behalf of API, Inc. (formerly ChemSource Corporation), requesting authority to manufacture pharmaceutical chemicals under FTZ procedures within FTZ 7. The application was filed on December 10, 2002 (67 FR 77467-77468, 12/18/2002).

The withdrawal was requested by the applicant because of changed circumstances, and the case has been closed without prejudice.

Dated: May 26, 2005.
Dennis Puccinelli,
Executive Secretary.

[FR Doc. 05-11127 Filed 6-2-05; 8:45 am]

BILLING CODE 3510-DS-S